DEPARTMENT OF HEALTH AND HUMAN SERVICES

Centers for Disease Control and Prevention

[60Day-13-13AGS]

Proposed Data Collections Submitted for Public Comment and Recommendations

In compliance with the requirement of Section 3506(c)(2)(A) of the Paperwork Reduction Act of 1995 for opportunity for public comment on proposed data collection projects, the Centers for Disease Control and Prevention (CDC) will publish periodic summaries of proposed projects. To request more information on the proposed projects or to obtain a copy of the data collection plans and instruments, call 404-639-7510 or send comments to LeRoy Richardson, 1600 Clifton Road, MS-D74, Atlanta, GA 30333 or send an email to omb@cdc.gov.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Written comments should be received within 60 days of this notice.

Proposed Project

Prevention of Child Maltreatment through Policy Change—NEW—National Center for Injury Prevention and Control (NCIPC), Centers for Disease Control and Prevention (CDC).

Background and Brief Description

The prevalence and consequences of child maltreatment (CM) make it a public health concern that requires early and effective prevention. Public policies can be critical in shaping every level of the social ecology, including individuals, families, and communities, and thus have the potential to play a key role in the prevention of CM. In order to protect children and youth and build an evidence-base of effective prevention strategies, evaluation of public policies are needed, including those policies currently being implemented. Policies related to family income (e.g., Temporary Assistance to Needy Families (TANF) eligibility and inroads to related services) were identified by CDC through the Division of Violence Prevention's Public Health Leadership Initiative policy analysis as those that are in need of rigorous evaluation.

CDC requests OMB approval for a period of two years in order to perform a data collection, which will provide data for a larger outcome evaluation that seeks to understand if county-administered policy strategies of the TANF program result in lower rates of CM and associated child welfare outcomes (e.g., time to adoption). The proposed data collection will include surveys and semi-structured interviews with state and county-level government employees and partners in Colorado to address three primary aims: (1) To understand how a state policy allowing counties to administer TANF programs with flexibility contributes to county-level adoption of integrated welfare and child welfare service models; (2) to develop and refine an Implementation Index, which will quantify the degree of integration between welfare and child welfare services; and (3) to inform the larger outcome evaluation, which examines whether TANF policies and program supports reduce rates of CM when they are delivered in an integrated welfare and child welfare service model.

Understanding how service integration between TANF and child welfare affects CM may be very important to improving CDC's ability to devise and implement effective population-based prevention strategies.

Approximately 188 Colorado state and county employees and partners form the sample population. Specifically, state- and county-level employees working in welfare and/or child welfare agencies will be invited to complete a brief survey and an hour-long semi-structured interview. This study population includes individuals employed in the following positions: County-Level Child Welfare Workers, State-Level Administrators, County Directors of Human Services, Child Welfare Services and Colorado Works Leadership/Manager, Child Welfare Services and Colorado Works Case Manager, Caseworker, Technician, and Other Client-Serving Staff. An additional 72 individuals employed by Allied Staff (e.g., Housing, Supplemental Nutrition Assistance Program, Medicaid, Child Care) and Partners of Child Welfare and Colorado Works will also be invited to complete an hour-long semi-structured interview. For the survey, 116 project participants will respond to the survey once, where each response requires 15 minutes: 116 (responses total) × 1 (responses per total project period) × 15/60 (hour per response) = 30 total survey burden hours. For the semi-structured interview, 188 project participants will respond to the interview once, where this response requires 188 total semi-structured interview burden hours. The total burden hours for this proposed data collection are 218.

There are no costs to respondents other than their time.

Estimated Annualized Burden
Type of respondents | Form name | Number of respondents | Number of responses per respondent | Avg. burden per response (in hrs.) | Total burden (in hrs.)
County Directors of Human Services | Survey of County TANF and Child Welfare Respondents | 18 | 1 | 15/60 | 5
| Interview of County Director of Human Services | 18 | 1 | 1 | 18
State Level Administrators | Survey of State Level Administrators | 8 | 1 | 15/60 | 2
| Interview of State Level Administrator/Field Administrator | 8 | 1 | 1 | 8
Child Welfare/Colorado Works Leadership/Manager | Survey of County TANF and Child Welfare Respondents | 36 | 1 | 15/60 | 9
| Interview of Child Welfare/Colorado Works Leadership/Manager | 36 | 1 | 1 | 36
Child Welfare Services and Colorado Works Case Manager, Caseworker, Technician, and Other Client-Serving Staff | Survey of County TANF and Child Welfare Respondents | 54 | 1 | 15/60 | 14
| Interview of Child Welfare and Colorado Works Case Manager, Caseworker, Technician and Other Client-Serving Staff | 54 | 1 | 1 | 54
Allied Staff (e.g., Housing, Supplemental Nutrition Assistance Program, Medicaid, Child Care) | Interview of Allied Staff (e.g., Housing, Supplemental Nutrition Assistance Program, Medicaid, Child Care) | 36 | 1 | 1 | 36
Partners of Child Welfare and Colorado Works | Interview of Partners | 36 | 1 | 1 | 36
Total |  |  |  |  | 218

LeRoy Richardson,
Chief, Information Collection Review Office, Office of Scientific Integrity, Office of the Associate Director for Science, Office of the Director, Centers for Disease Control and Prevention.

[FR Doc. 2013-21325 Filed 8-30-13; 8:45 am]

BILLING CODE 4163-18-P